OFFICE OF PERSONNEL MANAGEMENT

[Docket ID: OPM-2023-0039]

Submission for Review: 3206-0201; Federal Employees Health Benefits (FEHB) Open Season Express Interactive Voice Response (IVR) System and the Open Season Website

AGENCY: Office of Personnel Management.

ACTION: 60-Day notice and request for comments.

SUMMARY: The Office of Personnel Management (OPM), Retirement Services, offers the general public and other Federal agencies the opportunity to comment on an expiring information collection request (ICR), with change: 3206-0201, Federal Employees Health Benefits (FEHB) Open Season Express Interactive Voice Response (IVR) System and the Open Season website, Open Season Online.

DATES: Comments are encouraged and will be accepted until January 16, 2024.

ADDRESSES: You may submit comments, identified by docket number and title, by any of the following methods:

• Federal eRulemaking Portal: https://www.regulations.gov. Follow the instructions for submitting comments.

Instructions: All submissions received must include the agency name, docket number and title for this Federal Register document. The general policy for comments and other submissions from members of the public is to make these submissions available for public viewing on the internet at https://www.regulations.gov as they are received without change, including any personal identifiers or contact information.

FOR FURTHER INFORMATION CONTACT: A copy of this ICR with applicable supporting documentation may be obtained by contacting the Retirement Services Publications Team, Office of Personnel Management, 1900 E Street NW, Room 3316-L, Washington, DC 20415, Attention: Cyrus S. Benson, or sent via electronic mail to Cyrus.Benson@opm.gov or faxed to (202)936-0401 or reached via telephone at (202) 606-4808.

SUPPLEMENTARY INFORMATION:

As required by the Paperwork Reduction Act of 1995 (Pub. L. 104-13, 44 U.S.C. chapter 35), as amended by the Clinger-Cohen Act (Pub. L. 104-106), OPM is soliciting comments for this collection (OMB No. 3206-0201. OPM is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Federal Employees Health Benefits (FEHB) Open Season Express Interactive Voice Response (IVR) System, and the Open Season website, Open Season Online, are used by retirees and survivors. These systems collect information from retirees and survivors so that OPM may assist these customers change FEHB enrollments, add dependent and other insurance information for self and family enrollments, request plan brochures, make changes to addresses, cancel or suspend FEHB benefits, make payments to OPM when the FEHB payment is greater than the monthly annuity amount, and for purposes of requesting FEHB plan accreditation and customer satisfaction survey information.

The revision is as follows: The Open Season enrollment dates have been updated to reflect the upcoming benefits year of 2024 and enrollment period of November 13, 2023 through December 11, 2023.

Analysis

Agency: Retirement Operations, Retirement Services, Office of Personnel Management.

Title: Federal Employees Health Benefits (FEHB) Open Season Express Interactive Voice Response (IVR) System and Open Season Online.

OMB Number: 3206-0201.

Frequency: On occasion.

Affected Public: Individuals or households.

Number of Respondents: 350,100.

Estimated Time Per Respondent: 10 minutes.

Total Burden Hours: 58,350.

Office of Personnel Management.
Kayyonne Marston,
Federal Register Liaison.

[FR Doc. 2023-25062 Filed 11-13-23; 8:45 am]

BILLING CODE 6325-38-P